FEDERAL RETIREMENT THRIFT INVESTMENT BOARD

Notice of Board Meeting

DATES: March 23, 2021 at 10 a.m.

ADDRESSES: Telephonic. Dial-in (listen only) information: Number: 1-415-527-5035, Code: 199 745 8032; or via web: https://tspmeet.webex.com/tspmeet/onstage/g.php?MTID=e7e11130cc35cb77c504e21ee0db2a2b5.

FOR FURTHER INFORMATION CONTACT: Kimberly Weaver, Director, Office of External Affairs, (202) 942-1640.

SUPPLEMENTARY INFORMATION:

Board Meeting Agenda

Open Session

1. Approval of the February 23, 2021 Board Meeting Minutes

2. Monthly Reports

(a) Participant Activity Report

(b) Investment Performance

(c) Legislative Report

3. Quarterly Reports

(d) Vendor Risk Management Update

4. Multi-asset Manager Update

5. Federal Employee Viewpoint Survey (FEVS) Report

6. Enterprise Risk Management Update

Closed Session

7. Information covered under 5 U.S.C. 552b (c)(4).

Authority: 5 U.S.C. 552b (e)(1).

Dated: March 11, 2021.
Dharmesh Vashee,
Acting General Counsel, Federal Retirement Thrift Investment Board.

[FR Doc. 2021-05465 Filed 3-16-21; 8:45 am]

BILLING CODE P